DEPARTMENT OF TRANSPORTATION

National Highway Traffic Safety Administration

[Docket No. NHTSA-2010-0151; Notice 2]

General Motors LLC, Grant of Petition for Decision of Inconsequential Noncompliance

AGENCY: National Highway Traffic Safety Administration, DOT.

ACTION: Notice of petition grant.

SUMMARY: General Motors LLC (GM),¹ has determined that approximately 1,113 Model Year (MY) 2011 Buick Regal passenger cars do not fully comply with paragraph S4.3(d) of 49 CFR 571.110, Federal Motor Vehicle Safety Standard (FMVSS) No. 110, Tire selection and rims and motor home/recreation vehicle trailer load carrying capacity information for motor vehicles with a GVWR of 4,536 kilograms (10,000 pounds) or less. GM filed an appropriate report pursuant to 49 CFR part 573, Defect and Noncompliance Responsibility and Reports dated July 26, 2010.

¹ General Motors LLC (GM) is vehicle manufacturer incorporated under the laws of the state of Michigan.

Pursuant to 49 U.S.C. 30118(d) and 30120(h) and the rule implementing those provisions at 49 CFR Part 556, GM has petitioned for an exemption from the notification and remedy requirements of 49 U.S.C. chapter 301 on the basis that this noncompliance is inconsequential to motor vehicle safety. Notice of receipt of the petition was published, with a 30-day public comment period, on November 19, 2010 in the Federal Register (75 FR 70963). No comments were received. To view the petition and all supporting documents log onto the Federal Docket Management System (FDMS) Web site at: http://www.regulations.gov/. Then follow the online search instructions to locate docket number “NHTSA-2010-0151.”

For further information on this decision, contact Mr. John Finneran, Office of Vehicle Safety Compliance, the National Highway Traffic Safety Administration (NHTSA), telephone (202) 366-0645, facsimile (202) 366- 5930.

GM estimates that approximately 1,113 model year 2011 Buick Regal passenger cars manufactured between January 20, 2010, and May 18, 2010, at GM's Rüsselsheim assembly plant are affected.

GM explains that the noncompliance with FMVSS No. 110 is the omission of the letter “T” in the spare tire size printed on the tire and loading information labels that it affixed to the vehicles. Currently the tire size designation shows the spare tire size as “125/80R16” instead of “T125/80R16.”

GM additionally stated that it believes that this noncompliance is inconsequential to motor vehicle safety for the following reasons:

(1) All information for maintaining and/or replacing the front and rear tires, as well as the seating capacity and vehicle capacity weight are correct on tire and loading information labels on the subject vehicles.

(2) The vehicles are equipped with spare tires that have the complete tire size (T125/80R16) molded into their sidewalls.

(3) When a customer needs to replace the spare tire, he/she will take the vehicle to a tire store. The tire store will know what compact spare tire is needed based on the information in their catalog or by looking at the spare tire provided with the vehicle. If they rely on spare tire size printed on the tire and loading information label, they will find the spare tire size “125/80R16” without the letter T. This should not cause confusion or error because the only tire available with the size designation of “125/80R16” is the compact spare tire “T125/80R16.”

(4) Risk to the public is negligible because the vehicles are equipped with the correct spare tire, and the tire and loading information label does have the correct inflation pressure for the compact spare tire.

(5) GM is not aware of any incidents or injuries related to the subject condition.

GM has additionally informed NHTSA that it has corrected the noncompliance so that all future production vehicles will have compliant labels.

Supported by the above stated reasons, GM believes that the subject noncompliance is inconsequential to motor vehicle safety, and that its petition, to exempt it from providing recall notification of noncompliance as required by 49 U.S.C. 30118 and remedying the recall noncompliance as required by 49 U.S.C. 30120, should be granted.

NHTSA Decision: The intent of FMVSS No. 110 is to ensure that vehicles are equipped with tires appropriate to handle maximum vehicle loads and prevent overloading. NHTSA has confirmed that: The installed and labeled tires, including the spare, when inflated to the labeled recommended cold inflation pressure are appropriate to handle the vehicle maximum loads; the tire and loading information labels on subject vehicles are correct, except for the subject noncompliance; the vehicles are equipped with spare tires that have the complete tire size (T125/80R16) molded into their sidewalls; and the only tire available with the size designation of “125/80R16” is the compact spare tire “T125/80R16”. Consequently, the subject noncompliance should not cause any unsafe conditions associated with determination of the correct tire inflation pressures or replacement tire selection for the subject vehicles.

Therefore, NHTSA agrees with GM that the omission of the letter “T” in the spare tire size printed on the tire and loading information labels that it affixed to the vehicles does not have any adverse safety implications.

NHTSA is also not aware of any customer complaints or field reports relating to this issue and GM has stated that it has corrected the problem that caused these errors so that they will not be repeated in future production.

The National Highway Traffic Safety Administration (NHTSA) notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the 1,113 ² vehicles that have already passed from the manufacturer to an owner, purchaser, or dealer.

² GM's petition, which was filed under 49 CFR part 556, requests an agency decision to exempt GM as a manufacturer from the notification and recall responsibilities of 49 CFR part 573 for the affected vehicles. However, a decision on this petition cannot relieve distributors and dealers of the prohibitions on the sale, offer for sale, or introduction or delivery for introduction into interstate commerce of the noncompliant vehicles under their control after GM notified them that the subject noncompliance existed.

In consideration of the foregoing, NHTSA has decided that GM has met its burden of persuasion that the subject FMVSS No. 110 labeling noncompliance is inconsequential to motor vehicle safety. Accordingly, GM's petition is granted and the petitioner is exempted from the obligation of providing notification of, and a remedy for, the subject noncompliance under 49 U.S.C. 30118 and 30120.

Authority: 49 U.S.C. 30118, 30120: delegations of authority at CFR 1.50 and 501.8.

Issued on: November 22, 2011.
Claude H. Harris,
Director, Office of Vehicle Safety Compliance.

[FR Doc. 2011-31002 Filed 12-1-11; 8:45 am]

BILLING CODE 4910-59-P